DEPARTMENT OF JUSTICE

Antitrust Division

Notice Pursuant to the National Cooperative Research and Production act of 1993—American Society for Blood and Marrow Transplantation

Notice is hereby given that, on September 10, 2004, pursuant to section 6(a) of the National Cooperative Research and Production act of 1993, 15 U.S.C. 4301 et seq. (“the Act”), American Society for Blood and Marrow Transplantation (“ASBMT”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is American Society for Blood and Marrow Transplantation (“ASBMT”) Arlington Heights, IL 60005-4460. The nature and scope of ASBMT's standards development activities are to develop, plan, establish, coordinate, and publish voluntary consensus standards applicable to the field of cellular therapy and blood and marrow transplantation. Specifically, ASBMT develops, plans, establishes coordinates, and publishes voluntary consensus standards in the form of: Policy statements relating to the effectiveness of transplant therapies; transplant center guidelines; physician training guidelines; and clinical practice guidelines in the form of evidence-based reviews. Through its standard development activities, ASBMT seeks to ensure the highest quality of medical practice, define commonly accepted medical practice, and develop standards of medical care as related to the field of cellular therapy and blood and marrow transplantation. ASBMT's standards development activities are ongoing in nature, and existing guidelines and policy statements may be updated and/or amended from time to time.

Dorothy B. Fountain,
Deputy Director of Operations, Antitrust Division.

[FR Doc. 04-22157 Filed 10-1-04; 8:45 am]

BILLING CODE 4410-11-M